DEPARTMENT OF HOMELAND SECURITY

Coast Guard

33 CFR Part 165

[Docket No. USCG-2022-0748]

Safety Zones; Annual Events in the Captain of the Port Detroit Zone

AGENCY: Coast Guard, DHS.

ACTION: Notice of enforcement of regulation.

SUMMARY: The Coast Guard will enforce the safety zone for the annual Lakeside fireworks in the Captain of the Port Detroit zone. Enforcement of the safety zone is necessary to protect the safety of life and property on the navigable waters immediately prior to, during, and immediately after this event. During each enforcement period, no person or vessel may enter the safety zone without permission of the Captain of the Port Detroit or his designated representative.

DATES: The regulations in 33 CFR 165.941, Table 1, will be enforced from 9 p.m. until 10:30 p.m. September 3, 2022.

FOR FURTHER INFORMATION CONTACT: If you have questions on this document, call or email Karl Dirksmeyer, MSU Toledo, U.S. Coast Guard; telephone (419) 392-0324, email Karl.E.Dirksmeyer@uscg.mil.

SUPPLEMENTARY INFORMATION: The Coast Guard will enforce the safety zone listed in 33 CFR 165.941, Table 1 (44) for the End of Season Fireworks in Lakeside, OH. All waters of Lake Erie within a 200-yard radius of the fireworks launch site located on the Lakeside Association Dock at position 41°32.52′ N, 082°45.03′ W.

Under the provisions of 33 CFR 165.23, entry into, transiting, or anchoring within these safety zones during the enforcement period is prohibited unless authorized by the Captain of the Port Detroit or his designated representative. Vessels that wish to transit through the safety zones may request permission from the Captain of the Port Detroit or his designated representative. Requests must be made in advance and approved by the Captain of Port Detroit before transits will be authorized. Approvals will be granted on a case-by-case basis. The Captain of the Port Detroit may be contacted via U.S. Coast Guard Sector Detroit on channel 16, VHF-FM or by calling (313) 568-9564. The Coast Guard will give notice to the public via Local Notice to Mariners and VHF radio broadcasts that the regulation is in effect.

This notice of enforcement is issued under authority of 33 CFR 165.941 Table 1 and 5 U.S.C. 552(a). If the Captain of the Port Detroit determines that any of these safety zones need not be enforced for the full duration stated in this notice, he may suspend such enforcement and notify the public of the suspension via a Broadcast Notice to Mariners.

Dated: August 29, 2022.
Brad W. Kelly,
Captain, U.S. Coast Guard, Captain of the Port Detroit.

[FR Doc. 2022-18954 Filed 8-31-22; 8:45 am]

BILLING CODE 9110-04-P